DEPARTMENT OF JUSTICE

Notice of Extension of Public Comment Period on Eighth Consent Decree in United States v. Nalco Chemical Company, et al., Under the Comprehensive Environmental Response, Compensation, and Liability Act

Notice is hereby given that the public comment period on a proposed eighth Consent Decree in United States v. Nalco Chemical Company, et al., Case No. 91-C-4482 (N.D. Ill.) entered into by the United States on behalf of U.S. EPA and Commonwealth Edison Company has been extended until September 21, 2000. The eighth Consent Decree was lodged on August 3, 1999 with the United States District Court for the Northern District of Illinois. Notice of the public comment period was previously published at 65 FR 44809 (July 20, 2000).

Comments should be addressed to the Assistant Attorney General of the Environment and Natural Resources Division, Department of Justice, P.O. Box 7611, Ben Franklin Station, Washington, D.C. 20044, and should refer to United States v. Nalco Chemical Company, et al., D.J. Ref. No. 90-11-3-687. The proposed Consent Decree may be examined at the Office of the United States Attorney for the Northern District of Illinois, 219 S. Dearborn St., Chicago, Illinois 60604; and the Region V Office of the United States Environmental Protection Agency, 77 West Jackson Street, Chicago, Illinois 60604. A copy of the Consent Decree may also be obtained by request addressed to the Department of Justice Consent Decree Library, P.O. Box 7611, Ben Franklin Station, Washington, DC 20044. In requesting a copy of the Consent Decree, please enclose a check in the amount of $37.00 (25 cents per page for reproduction costs), payable to the Consent Decree Library.

Bruce S. Gelber,
Deputy Section Chief, Environmental Enforcement Section, Environment and Natural Resources Division.

[FR Doc. 00-22135 Filed 8-29-00; 8:45 am]

BILLING CODE 4410-15-M